SMALL BUSINESS ADMINISTRATION

[Disaster Declaration #20333 and #20334; WEST VIRGINIA Disaster Number WV-20004]

Presidential Declaration Amendment of a Major Disaster for the State of West Virginia

AGENCY: Small Business Administration.

ACTION: Amendment 1.

SUMMARY: This is an amendment of the Presidential declaration of a major disaster for the State of WEST VIRGINIA (FEMA-4787-DR), dated 07/03/2024.

Incident: Severe Storms, Flooding, Landslides, and Mudslides.

Incident Period: 04/11/2024 through 04/12/2024.

DATES: Issued on 08/16/2024.

Physical Loan Application Deadline Date: 09/03/2024.

Economic Injury (EIDL) Loan Application Deadline Date: 04/03/2025.

ADDRESSES: Visit the MySBA Loan Portal at https://lending.sba.gov to apply for a disaster assistance loan.

FOR FURTHER INFORMATION CONTACT: Alan Escobar, Office of Disaster Recovery & Resilience, U.S. Small Business Administration, 409 3rd Street SW, Suite 6050, Washington, DC 20416, (202) 205-6734.

SUPPLEMENTARY INFORMATION: The notice of the President's major disaster declaration for the State of WEST VIRGINIA, dated 07/03/2024, is hereby amended to include the following areas as adversely affected by the disaster:

Primary Counties (Physical Damage and Economic Injury Loans): Boone.

Contiguous Counties (Economic Injury Loans Only): West Virginia: Logan, Wyoming.

All other information in the original declaration remains unchanged.

(Catalog of Federal Domestic Assistance Number 59008)

Rafaela Monchek,
Acting Associate Administrator, Office of Disaster Recovery & Resilience.

[FR Doc. 2024-18883 Filed 8-21-24; 8:45 am]

BILLING CODE 8026-09-P